DEPARTMENT OF AGRICULTURE

Forest Service

Southern Region Recreation Resource Advisory Committee

AGENCY: Forest Service, USDA.

ACTION: Notice of meeting via teleconference.

SUMMARY: The Southern Region Recreation Resource Advisory Committee will hold a meeting via teleconference. The purpose of the teleconference is to discuss committee roles and responsibilities and to set a meeting date to consider fee proposals for areas managed by the Forest Service in Alabama, Arkansas, Florida, Georgia, Kentucky, Louisiana, Mississippi, North Carolina, Oklahoma, South Carolina, Tennessee, Texas, Virginia, and the territory of Puerto Rico; and to discuss other items of interest related to the Federal Lands Recreation Enhancement Act of 2004.

A final agenda will be sent to regional media sources at least 7 days before the teleconference, and hard copies can also be mailed or sent via FAX. Individuals who need special, or who wish a hard copy of the agenda, should contact Caroline Mitchell at PO Box 1270, Hot Springs, AR 71902 or by phone at 501-321-5318 prior to the meeting.

DATES: The teleconference will be held April 10, 2012, beginning at 10 a.m. EST and ending at approximately 11:30 a.m. Alternate teleconference dates are April 24, 2012, May 10, 2012 and May 24, 2012 in case of postponement due to unforeseen circumstances. Please call 501-321-5202 prior to April 9th to determine postponment.

ADDRESSES: To participate in the teleconference from a remote location, call 501-321-5318 to obtain the phone number and access code. Additionally, teleconference equipment will be available to the public at 100 Reserve Street, Hot Springs, Arkansas. Please call ahead to facilitate entry into the building.

FOR FURTHER INFORMATION CONTACT: Caroline Mitchell, Committee Coordinator, USDA, P.O. Box 1270, Hot Springs, AR 71902. (501-321-5318). Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed in FOR FURTHER INFORMATION CONTACT.

SUPPLEMENTARY INFORMATION: Individuals wishing to make an oral statement should request in writing by April 9, 2012, to be scheduled on the agenda. Send written comments and requests to Southern Region Recreation RAC, Caroline Mitchell, P.O. Box 1270, Hot Springs, AR 71902, or by email to carolinemitchell@fs.fed.us, or via facsimile to 501-321-5399. Written comments may be submitted as described under Supplementary Information. All comments, including names and addresses when provided, are placed in the record and are available for public inspection and copying. The public may inspect comments received at the same location. A summary of the meeting will be posted at http://www.fs.fed.us/r8/rrac/index.php within 21 days of the meeting.

Dated: March 9, 2012.
Alison Koopman,
Designated Federal Official.

[FR Doc. 2012-6536 Filed 3-16-12; 8:45 am]

BILLING CODE 3410-11-P